DEPARTMENT OF STATE

[Public Notice 4900]

Notice of Meeting; United States International Telecommunication Advisory Committee Meeting on Preparations for the Telecommunication Standardization Advisory Group Meeting and for Other ITU Telecommunication Standardization Study Group Meetings

The Department of State announces the following meetings of the International Telecommunication Advisory Committee (ITAC) to prepare for the ITU Telecommunication Standardization Advisory Group Meeting and ITU-T Study Groups 3, 4, and 17 Meetings.

The ITAC will meet as follows with an agenda for preparations for the ITU-T Telecommunication Standardization Advisory Group (TSAG) meeting: January 19, February 2, February 16, and March 2, 2005. All meetings will be from 2-4 p.m. and will be held in the Washington, DC area. The meeting of February 16 will be a teleconference. People desiring to attend may find the actual location and the call in numbers for a teleconference bridge by e-mailing the secretariat at minardje@state.gov.

The ITAC will meet as follows with an agenda for preparations for the ITU-T Study Group 3 (Tariff and accounting principles) meeting: January 5 and January 11, 2005 from 2-4 p.m.; these meetings will be held in the Washington, DC area. People desiring to attend may find the actual location by e-mailing the secretariat at minardje@state.gov.

The ITAC will meet to prepare for ITU-T Study Group 17 (Security, languages and telecommunication software) meeting and the ITU-T Study Group 4 (Telecommunication management) meeting on January 26, 2005, at 10 a.m. at the offices of Communication Technologies, Inc. (COMTek), 14151 Newbrook Dr., Suite 400, Chantilly, VA 20151. Driving directions to COMTek may be obtained at (703) 961-9080. People unable to attend in person may attend via conference bridge; call in information may be obtained by calling the secretariat at (303) 499-2145.

Dated: December 10, 2004.
Anne Jillson,
Foreign Affairs Officer, Department of State.

[FR Doc. 04-27806 Filed 12-17-04; 8:45 am]

BILLING CODE 4710-07-P